DEPARTMENT OF COMMERCE

National Telecommunications and Information Administration

[Docket No. 210503-0097]

RIN 0660-XC050

Telecommunications/ICT Development Activities, Priorities and Policies To Connect the Unconnected Worldwide in Light of the 2021 International Telecommunication Union (ITU) World Telecommunication Development Conference (WTDC-21)

AGENCY: National Telecommunications and Information Administration, U.S. Department of Commerce.

ACTION: Notice, request for public comment.

SUMMARY: As the United States prepares for the International Telecommunication Union's (ITU) World Telecommunication Development Conference (WTDC-2021) scheduled for November 8-19, 2021, in Addis Ababa, Ethiopia, the National Telecommunications and Information Administration is working closely with the U.S. Department of State, the Federal Communications Commission (FCC), other federal agencies, and members of the U.S. private sector. The WTDC-2021 will set the priorities and activities for the ITU Telecommunication Development Sector in areas such as connectivity and digital inclusion. Through this Notice, NTIA is seeking public comments regarding activities, priorities, and policies that advance telecommunications and information and communications technology (ICT) development worldwide to assist the U.S. government in the development of its position for the conference.

DATES: Comments are due on or before June 7, 2021.

ADDRESSES: Written comments may be submitted by mail to the Office of International Affairs (OIA), National Telecommunications and Information Administration, U.S. Department of Commerce, 1401 Constitution Avenue NW, Room 4701, Washington, DC 20230. Written comments may also be submitted electronically to WTDC21@ntia.gov. Please submit electronic comments, either in Microsoft Word or Adobe PDF, using a text searchable format. NTIA will post comments to the NTIA website at https://www.ntia.doc.gov/federal-register-notice/2021/request-comments-connecting-unconnected-worldwide-wtdc-21.

FOR FURTHER INFORMATION CONTACT: Diane Steinour, Office of International Affairs, National Telecommunications and Information Administration, U.S. Department of Commerce, 1401 Constitution Avenue NW, Room 4701, Washington, DC 20230; telephone: (202) 482-3180; email: dsteinour@ntia.gov. Please direct media inquiries to NTIA's Office of Public Affairs at (202) 482-7002 or press@ntia.gov.

SUPPLEMENTARY INFORMATION: The International Telecommunication Union's (ITU) World Telecommunication Development Conference (WTDC-21 or Conference), whose theme is “Connecting the Unconnected to Achieve Sustainable Development,” is scheduled for November 8-19, 2021, in Addis Ababa, Ethiopia. The WTDC-2021 is a quadrennial conference that will bring together the ITU's 193 Member States and private sector organizations (sector members) that participate in the Development Sector of the ITU (ITU-D). As the United States prepares for the WTDC-21, NTIA is working closely with the U.S. Department of State, which is leading and coordinating the WTDC-21 preparatory process for the United States, along with several Executive Branch agencies, the FCC and members of the U.S. private sector. The Conference will set the priorities and activities for the ITU Telecommunication Development Sector in areas such as connectivity and digital inclusion. To inform the development of the U.S. government's priorities and position for the Conference, NTIA is seeking comments and recommendations on activities, priorities, and policies that advance telecommunications and information and communications technology (ICT) development worldwide.¹

¹ NTIA is the President's principal adviser on telecommunications policy. See 47 U.S.C. 902(b)(2)(D). NTIA also develops and sets forth, in coordination with the Secretary of State and other interested agencies, plans, policies, and programs which relate to international telecommunications issues, conferences, and negotiations; coordinates economic, technical, operational, and related preparations for United States participation in international telecommunications conferences and negotiations; and provides advice and assistance to the Secretary of State on international telecommunications policies to strengthen the position and serve the best interests of the United States in support of the Secretary of State's responsibility for the conduct of foreign affairs. See 47 U.S.C. 902(b)(2)(G).

In general, the U.S. government's goal is to strengthen open, inclusive, and secure digital ecosystems as nations work towards universal connectivity. Additionally, the U.S. government seeks to leverage private sector collaboration to strengthen local capacity, create improved outcomes for development and humanitarian assistance, encourage adoption of U.S. values, ensure adherence to internationally recognized standards, improve cybersecurity, and foster open markets to close the global digital divide. We seek to reach the U.S. telecommunication/ICT stakeholder community and expand this community with new connectivity stakeholders in order to obtain a diverse range of views and increase recognition about the positive contributions U.S. entities are making to connect the unconnected and increase digital inclusion. We welcome views, studies, reports and references to development projects and engagements that could bolster and help facilitate future partnerships and collaborative endeavors towards telecommunications/ICT development.

The COVID-19 global health emergency has underscored the need for greater connectivity around the globe to meet the challenges of daily life. Only 51 percent of the world's population is online, leaving nearly four billion people unable to connect to the internet. The United Nations (UN) estimates that it will cost $428 billion to connect the unconnected by 2030. As we learn lessons from unserved and underserved communities in the United States and in other countries and regions, we seek greater stakeholder engagement, input and advice: what works, what does not, and what lessons have been learned to help address affordable access to and uptake of telecommunications and ICT products and services worldwide.

NTIA is seeking to foster more active United States participation and leadership by stakeholders in the ITU. U.S. citizen Doreen Bogdan-Martin serves as the current Telecommunication Development Bureau Director and is the first female elected to the ITU leadership team. She is seeking to widen the communities of interest represented in ITU-D activities to help lead to more concrete results and outcomes in project and capacity building implementation. WTDC-21 will launch a four-year work program in 2022-25 for ITU-D, during which it will set out its priorities for development assistance, regional office capacity building, and study areas along thematic priorities.

The U.S. government's objectives for the WTDC and ITU-D include advancing U.S. efforts to:

—Improve global ICT connectivity and affordability to reach everyone

—Improve digital skills acquisition

—Reduce the global digital divide and promote inclusion, with a focus on women and girls and students, as drivers for adoption, especially in developing countries

—Demonstrate U.S. leadership in connecting the unconnected nationally, regionally, and globally

—Promote policies that spur competition, investment, and innovation

—Promote ITU-D's focus on capacity building, enabling policy environments to foster adoption of new technologies, and promote new business models and forms of partnership to connect the unconnected with affordable broadband services

—Leverage the WTDC-21 to kick-start new ICT development partnerships worldwide that produce sustainable and effective solutions

—Increase the value proposition for stakeholders, especially from the Americas region, to engage in ITU-D activities

—Strengthen our interactions with both developed and developing countries to accomplish shared ICT objectives.

This Notice and Request for Public Comment is the public's opportunity to: (1) Provide input to NTIA on the public's interest in general global telecommunications and ICT policy and development activities and priorities, (2) assist the U.S. delegation to the WTDC as it prepares for the Conference, and (3) inform future U.S. telecommunications and ICT development goals and priorities including engagement with the ITU Development Sector on capacity building activities. NTIA seeks comments and supporting materials regarding the objectives listed above as well as proposals on U.S. policies and goals about telecommunications and ICT development activities. Comments are welcome from all interested stakeholders including the private sector, the technical community, academia, government, civil society, and individuals. The comments will help NTIA and the U.S. government leverage and prioritize resources and policy expertise most effectively.

Please address any of the following topics in any submission:

1. ICT Development Priorities

a. Over the next five years, what should the U.S. government priorities be for telecommunications/ICT development?

b. Are there particular areas of focus for economic development, as well as telecommunications/ICT development that might help the United States align with developing countries' development interests?

c. What are valuable venues, forums, or methods to focus this work?

2. U.S. Stakeholder Community

a. In General

i. What are the challenges or barriers towards connecting the unconnected? Are there particular lessons or policy approaches regarding the gender digital divide?

ii. What types of activities or projects have been most successful in building capacities of developing countries towards increasing telecommunications/ICT development and inclusion?

iii. How can virtual platforms increase capacity building, especially since COVID-19 began?

iv. How best can the U.S. government share its experiences and best practices on telecommunications/ICT deployment overcoming the digital divide, and other telecommunications/ICT developmental topics? In 2021? Longer term?

v. What interest or experience, if any, should the U.S. government be aware of entities participating in telecommunications/ICT projects, capacity-building efforts, and/or donation of ICT products and services globally and/or particularly those focused on meeting developing country needs?

vi. What types of financing or other partnership mechanisms, including particular organizations or venues, may help advance global ICT development?

vii. What are some structured corporate social responsibility, goodwill programs, or corporate partnership programs that may be useful resources?

viii. What are some foundations or financial institutions or non-profits that can share donor experiences and best practices to encourage investment in underserved and unserved areas (domestically or internationally)?

b. For the ITU and WTDC-21

i. How might virtual platforms enhance the development and capacity building work of the ITU Bureau of Telecommunication Development (BDT) and ITU-D study groups, including U.S. participation, in a post-COVID-19 environment? Are other methods available or appropriate?

ii. How should we best engage U.S. stakeholders and ascertain their input before, during, and after the WTDC-21 (and on an ongoing basis)?

iii. BDT is seeking to ensure that WTDC-21 is a development-focused conference that mobilizes people and resources to “Connect the Unconnected to Achieve Sustainable Development” including thematic dialogues, a youth summit, and other events to bring stakeholders together to consider key telecommunications/ICT development topics. How can the U.S. government increase awareness or participation in WTDC-21 in order to help ensure concrete outcomes?

3. WTDC-21

a. What WTDC-21 outcomes would best help achieve the Conference's goal to connect the unconnected and to help raise awareness and mobilize resources to close the digital divide?

b. What development projects, ideas, and activities might be useful for the U.S. government to advance through the ITU Development Sector?

c. What ITU-D accomplishments should the U.S. government encourage the ITU seek to replicate?

4. Other

a. Are there other telecommunications/ICT development matters that stakeholders want to raise with the U.S. government (unrelated to the ITU or UN)?

Request for Public Comment

In addition to the questions above, NTIA invites comment on the full range of issues that may be presented by this inquiry. We also welcome input and comments on any specific issues being advanced by other countries, private sector organizations, and stakeholders for WTDC-2021.

Instructions for Commenters

Commenters are encouraged to address any or all of the questions in this RFC. Comments that contain references to studies, research, and other empirical data that are not widely published should include copies of the referenced materials with the submitted comments. Comments submitted by email should be machine-readable and should not be copy-protected. Comments submitted by mail may be in hard copy (paper) or electronic (on CD- ROM or disk).

Commenters should include the name of the person or organization filing the comment, as well as a page number on each page of their submissions. All comments received are a part of the public record and generally will be posted on the NTIA website, https://www.ntia.gov, without change. All personal identifying information (for example, name, address) voluntarily submitted by the commenter may be publicly accessible. Do not submit confidential business information or otherwise sensitive or protected information.

Dated: May 3, 2021.
Kathy Smith,
Chief Counsel, National Telecommunications and Information Administration.

[FR Doc. 2021-09581 Filed 5-5-21; 8:45 am]

BILLING CODE 3510-60-P